DEPARTMENT OF HEALTH AND HUMAN SERVICES

Centers for Disease Control and Prevention

[Program Announcement 02163]

Support for Civil Society of Organizations Responding to HIV/AIDS in Zimbabwe; Notice of Availability of Funds; Amendment II

A notice announcing the availability of Fiscal Year 2002 funds for cooperative agreements for Support for Civil Society of Organizations Responding to HIV/AIDS in Zimbabwe was published in the Federal Register on May 23,2002, Volume 67, Number 100, Pages 36194-36196. The notice is amended as follows: On page 36194, column 3, section C, Availability of Funds, should be amended to include, “Funding priorities for this program have been established by the CDC-Zimbabwe AIDS Program Office, to allow for geographic diversity of grantees as well as diversity in the functions and roles of grantees. These priorities include the following categories:

“(1) Behavior Change Training: One or two organizations to lead efforts involving training, workshops, and seminars on behavior change in young persons to prevent HIV/AIDS, incorporating the CDC MARCH strategy and/or other science-based strategies;

“(2) Ecumenical MARCH Reinforcement Partner: One multidenominational, faith-based organization that can serve as a lead institution for development of behavior change reinforcement materials and strategies to reach church-based youth groups.

“(3) Denominations: Two or three major denominations or faith organizations with commitment and capacity to implement a comprehensive HIV prevention plan for young persons in their denomination or organization.

“(4) Organization of HIV-positive persons: One or two organizations that symbolize, represent, and advocate for HIV-positive persons in Zimbabwe.

“(5) Trainers in HIV/AIDS Medical Care: One nongovernmental organization that provides training for health care professionals taking care of persons with HIV/AIDS.

“(6) Multisectoral, district level organizations: At least one to two (or possibly more) organizations that function principally at the district level, working across multiple sectors, with the capacity to assist in mobilizing multiple sectors for involvement with the CDC MARCH reinforcement strategy at the district level.

“Applications responsive to this program announcement will be funded in the categories listed above. CDC expects to fund at least one, but no more than the maximum number identified. Additional organizations may be funded based on evaluation criteria and the availability of funds.”

Dated: July 31, 2002.
Sandra R. Manning,
Director, Procurement and Grants Office, Centers for Disease Control and Prevention.

[FR Doc. 02-19766 Filed 8-5-02; 8:45 am]

BILLING CODE 4163-18-P